DEPARTMENT OF THE INTERIOR

National Park Service

Lake Mead National Recreation Area; Environmental Assessment

AGENCY: National Park Service, Interior.

ACTION: Availability of environmental assessment.

SUMMARY: Lake Mead National Recreation Area (NRA) will release for public review an Environmental Assessment (EA) regarding the construction and operation of a wireless telecommunication facility. Cingular Wireless has proposed to construct the facility, referred to as the Saddle Cove site, near the Boulder Maintenance Facility within Lake Mead NRA, a unit of the National Park System. The overall objective of the project is to serve the public interest by providing improved wireless cellular coverage to the area. In order to provide coverage to a sufficient area, new facilities must be located within a search ring so that calls can hand off from existing facilities to the new ones without being lost. The proposed site, which is located in a developed area, is approximately 40′ x 40′ in size, and the proposed facility will include a small building and 120-foot lattice tower mounted with microwave dishes and several antennas.

DATES: The EA will be released for public review on or before June 15, 2004. Written comments must be postmarked no later than July 15, 2004. Copies of the document can be requested from the Office of the Superintendent, or the document can be viewed online at http://www.nps.gov/lame/pphtml/documents.html.

ADDRESSES: Comments should be mailed to Superintendent, Lake Mead NRA, 601 Nevada Way, Boulder City, NV 89005, or submitted by e-mail on the park's Web site at http://www.nps.gov/lame/pphtml/contact.html.

FOR FURTHER INFORMATION CONTACT: Michael Boyles, Environmental Compliance Specialist, Lake Mead National Recreation Area, (702) 293-8978.

SUPPLEMENTARY INFORMATION: Cingular Wireless worked in cooperation with the National Park Service to prepare the EA. Public scoping occurred between March 15 and April 15, 2004. The park prepared a press release for local media outlets and the park website to announce Cingular's proposal and the intent to prepare an EA. One comment was received, supporting the project based on the increased safety associated with cellular phone coverage.

The park will use the EA and the comments it receives from the public in making its decision as to whether, and under what conditions, to grant the applicant's request for a right-of-way permit for the telecommunications facility. The applicant pays for the processing of the application and, if it is approved, the applicant will pay fair market value for the use of the land. Approval of the request would result in the construction of a 120-foot lattice tower, mounted with a microwave dish and several antennas. Associated equipment would be located in a shelter approximately 10′ by 16′ in size near the base of the tower. Approximately 290 feet of trenching would be necessary to connect the proposed facility to existing utilities. The total area of the site is approximately 40′ by 40′. Access to the site would require grading a 45 foot long road to connect the site to an existing powerline road. The site will be constructed in an area previously disturbed by the construction of Boulder Beach Filtration Plant, Ranger Station, and Maintenance Yard, which are located nearby.

The EA will address impacts to soils and vegetation, wildlife, air quality, scenic quality, cultural resources, visitor experience, safety, and land use. Biological surveys found no threatened or endangered species in the project area. The EA will be sent to agencies, organizations, and individuals on the park's mailing list, and to others who request a copy. Copies of the EA can be requested by writing to the Superintendent, 601 Nevada Way, Boulder City, NV 89005, or the document can be viewed online at http://www.nps.gov/lame/pphtml/documents.html.

Dated: May 5, 2004.
Bernard C. Fagan,
Deputy Chief, Office of Policy, National Park Service.

[FR Doc. 04-11471 Filed 5-20-04; 8:45 am]

BILLING CODE 4312-52-P